CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Corporation Enrollment and Exit Forms to the Office of Management and Budget (OMB) for review and approval in accordance with the Paperwork Reduction Act of 1995, Public Law 104-13, (44 U.S.C. chapter 35). Copies of this ICR, with applicable supporting documentation, may be obtained by calling the Corporation for National and Community Service, Amy Borgstrom at (202) 606-6930. Individuals who use a telecommunications device for the deaf (TTY-TDD) may call (202) 606-3472 between 8:30 a.m. and 5 p.m. e.t., Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on April 14, 2010. This comment period ended June 15, 2010. No public comments were received from this Notice.

Description: The Corporation is seeking approval of the Corporation Enrollment and Exit Forms. Applicants will respond to the questions included in this ICR in order to enroll in the National Service Trust and document their exit from service.

Type of Review: Revision.

Agency: Corporation for National and Community Service.

Title: Corporation Enrollment and Exit forms.

OMB Number: 3045-0006 (Enrollment) and 3045-0015 (Exit).

Agency Number: None.

Affected Public: AmeriCorps members and Summer of Service participants.

Total Respondents: 296,000.

Frequency: Ongoing.

Average Time per Response: 10 minutes

Estimated Total Burden Hours: 49,333 hours.

Total Burden Cost (capital/startup): None.

Total Burden Cost (operating/maintenance): None.

Date: July 15, 2010.
Kristin McSwain,
Chief of Program Operations.

[FR Doc. 2010-17713 Filed 7-20-10; 8:45 am]

BILLING CODE 6050-$$-P